FEDERAL COMMUNICATIONS COMMISSION

47 CFR Parts 1, 27 and 73

[GN Docket No. 12-268; DA 12-1916]

Expanding the Economic and Innovation Opportunities of Spectrum Through Incentive Auctions

AGENCY: Federal Communications Commission.

ACTION: Proposed rule; extension of comment and reply comment period.

SUMMARY: The Media Bureau extends the deadline for filing comments and reply comments on the Notice of Proposed Rulemaking (“NPRM”) in this proceeding which was published in the Federal Register on November 21, 2012. The extension will provide commenters with sufficient time to prepare comments and reply comments in response to the NPRM.

DATES: The comment and reply comment period for the proposed rule published at 77 FR 69933, November 21, 2012 is extended. Submit comments on or before January 25, 2013 and reply comments on or before March 12, 2013.

ADDRESSES: You may submit comments, identified by MB Docket No. 12-268, by any of the following methods:

• Federal Communications Commission's Web site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People with Disabilities: Contact the FCC to request reasonable accommodations (accessible format documents, sign language interpreters, CART, etc.) by email: FCC504@fcc.gov or phone: (202) 418-0530 or TTY: (202) 418-0432.

FOR FURTHER INFORMATION CONTACT: For additional information on this proceeding, contact Edward Smith at (202) 418-1890, Edward.Smith@fcc.gov.

SUPPLEMENTARY INFORMATION: This is a summary of the Order in Docket No. 12-268, DA 12-1916, adopted and released on November 29, 2012, which extends the comment and reply comment deadlines established in the NPRM published under FCC No. 12-118 at 77 FR 69933, November 21, 2012. The full text of this document is available for public inspection and copying during normal business hours in the FCC Reference Center, Portals II, 445 12th Street SW., Room CY-A257, Washington, DC 20554. The complete text may also be purchased from the Commission's copy contractor, Best Copy and Printing, Inc., 445 12th Street SW., Room CY-B402, Washington, DC 20554. The full text may also be downloaded at: http://www.fcc.gov. Alternative formats are available to persons with disabilities by sending an email to FCC504@fcc.gov or by calling the Consumer & Governmental Affairs Bureau at (202) 418-0530 (voice), 202-418-0432 (TTY).

Summary of the Order

1. On October 2, 2012, the Commission released a Notice of Proposed Rulemaking (“NPRM”) to implement an incentive auction of broadcast television spectrum. The NPRM set deadlines for filing comments and reply comments at December 21, 2012, and February 19, 2013, respectively.

2. On November 20, 2012, the National Association of Broadcasters (NAB) and CTIA—The Wireless Association (CTIA) filed a joint request to extend the comment and reply comment deadlines to January 25, 2013 and March 26, 2013. NAB and CTIA state that an extension of time is warranted due to the complex economic, engineering, and policy issues presented by the NPRM. We grant the requested extension. As set forth in § 1.46 of the Commission's rules, the Commission's policy is that extensions of time for filing comments in rulemaking proceedings shall not be routinely granted. In this case, however, an extension of the comment periods is warranted to provide commenters with sufficient time to prepare comments and reply comments that fully respond to the NPRM.

3. Accordingly, it is ordered that, pursuant to section 4(i) of the Communications Act of 1934, as amended, 47 U.S.C. 154(i), and §§ 0.61, 0.283, and 1.46 of the Commission's rules, 47 CFR 0.61, 0.283, and 1.46, the Motion for Extension of Time filed by NAB and CTIA is granted, and the deadlines to file comments and reply comments in this proceeding are extended to January 25, 2013 and March12, 2013, respectively.

Federal Communications Commission.
William T. Lake,
Chief, Media Bureau.

[FR Doc. 2012-29962 Filed 12-11-12; 8:45 am]

BILLING CODE 6712-01-P